DEPARTMENT OF TRANSPORTATION

Office of the Secretary

Notice of Applications for Certificates of Public Convenience and Necessity and Foreign Air Carrier Permits Filed Under Subpart B (Formerly Subpart Q) During the Week Ending February 10, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-23898.

Date Filed: February 8, 2006.

Due Date for Answers, Conforming Applications, or Motion to Modify Scope: March 1, 2006.

Description: Application of Pacific Airways, Inc. requesting a certificate of public convenience and necessity to transport passengers, property, and mail in interstate air transportation.

Docket Number: OST-2005-22228 and OST-1997-2558.

Date Filed: February 9, 2006.

Due Date for Answers, Conforming Applications, or Motion to Modify Scope: March 2, 2006.

Description: Amendment of Continental Micronesia, Inc. to its application for renewal of certain segments of its certificate for Route 171 to include authority, pursuant to the Department's August 23, 2005 notice on streamlining regulatory procedures, to provide scheduled air transportation of persons, property and mail between Guam and Cairns, Australia; Guam and Nagoya, Japan; and Honolulu and Nagoya, Japan and authority to integrate this authority with authority currently held by Continental Micronesia, Inc.

Docket Number: OST-2003-16773 and OST-2003-16774.

Date Filed: February 10, 2006.

Due Date for Answers, Conforming Applications, or Motion to Modify Scope: March 3, 2006.

Description: Application of Ameristar Air Cargo, Inc. d/b/a Ameristar Charters requesting renewal of its certificates of public convenience and necessity to engage in interstate and foreign charter air transportation of persons on a permanent basis.

Renee V. Wright,
Program Manager, Docket Operations, Federal Register Liaison.

[FR Doc. E6-2962 Filed 3-2-06; 8:45 am]

BILLING CODE 4910-62-P